DEPARTMENT OF AGRICULTURE

Forest Service

Cayuga Project, Chequamegon-Nicolet National Forest, Ashland County, WI

AGENCY: USDA, Forest Service.

ACTION: Notice; intent to prepare an environmental impact statement.

SUMMARY: The Forest Service will prepare an environmental impact statement (EIS) to document the analysis and disclose the environmental impacts of proposed land management activities, and corresponding alternatives, within the Cayuga project area.

The purpose of the Cayuga project is to implement a variety of land management activities that addresses resource management and public safety concerns while moving the area towards the desired future condition as directed in the Chequamegon Land and Resource Management Plan. These activities include vegetation management, wildlife and fisheries habitat protection and enhancement, watershed restoration, and recreation facilities and trail improvement. The existing condition does not meet the desired future condition described in the Chequamegon Land and Resource Management Plan.

A legal description for the area is as follows: Township 43 North, Range 2 West, Sections 6-7, 16-20, and 29; Township 43 North, Range 3 West, Sections 1-18, and 23-24; Township 43 North, Range 4 West, Sections 1-3, 10-23, and 27-33; Township 43 North, Range 5 West, Section 24; Township 44 North, Range 3 West, Sections 19-23 and 26-35; and Township 44 North, Range 4 West, Sections 23-27 and 34-36, Fourth Principle Meridian.

DATES: Initial comments concerning the scope of the analysis should be received on or before May 23, 2001 to receive timely consideration in the preparation of the draft EIS.

ADDRESSES: Send written comments concerning the proposed land management activities or requests to be placed on the project mailing list to: Barry Paulson, District Ranger, Great Divide Ranger District, P.O. Box 126, Hwy. 13, Glidden, Wisconsin 54527.

FOR FURTHER INFORMATION CONTACT: Teresa Maday, Project Leader/Integrated Resource Analyst, or Richard Strauss, Assistant Ranger-Timber, Great Divide Ranger District, P.O. Box 126, Hwy. 13, Glidden, Wisconsin, or phone at (715) 264-2511.

SUPPLEMENTARY INFORMATION: The information presented in this notice is included to help the reviewer determine if they are interested in or potentially affected by the proposed land management activities. The information presented in this notice is summarized. Those who wish to provide comments, or are otherwise interested in or affected by the project, are encouraged to obtain additional information from the contact identified in the For Further Information Contact section.

Proposed Actions—The proposed land management activities (proposed actions) include the following with approximate acreage and mileage values: (1) Forest Age and Composition—selection harvest 2,101 acres, thin 1,744 acres, clearcut harvest 732 acres, shelterwood seedcut harvest 339 acres, overstory shelterwood removal harvest 64 acres, and underplant 38 acres (other needs include 14 miles of temporary road construction, which will be obliterated following harvest activities, and reconstruction of 16.8 miles); (2) Visual Quality Objectives—underplant 53 acres with white pine in stands adjacent to Day Lake and Spillerberg Lake and within Day Lake Campground and shelterwood seedcut harvest 279 acres along County Highway GG north; (3) Recreation Facilities—thin 113 acres of jack and red pine within Day Lake Campground; (4) Fish and Wildlife Habitat Improvement—restore 75 acres of upland openings through a combination of hand cutting, mowing, and prescribed burning, remove fine debris and alder along 1.5 miles of McCarthy Creek, and place brush bundles along 1,000 feet of McCarthy Creek; (5) Watershed Improvement—replace culverts and improve road crossings at seven sites along unnamed tributaries to Dead Horse Slough, East Twin Lake, Brush Creek, Bad River, Squaw Creek and along County Highway GG north, and thin 52 acres and underplant within 300 feet of McCarthy Creek; (6) Noxious Weeds—biologically treat less than 1 acre of noxious weed infestation along County Highway GG north; (7) Trail Management—construct a 1 acre snowmobile trailhead and reroute 4.8 miles and abandon 2.5 miles of Snowmobile Trail 8; and (8) Road Closures—close .5 miles of road in the McCarthy Lake and Cedars Research Natural Area.

The scope of this analysis is limited to activities related to the purpose and need and measures necessary to mitigate the effects these activities may have on the environment. The decision will include if, when, how, and where to schedule: Vegetation management activities, recreation site and trail improvement projects, road improvement, construction, and management activities, watershed and fisheries improvement activities, planting and reforestation activities, wildlife habitat enhancement projects, visual quality enhancement activities, resource protection measures, monitoring, and other follow-up activities.

Responsible Official—The District Ranger of the Great Divide Ranger District, Barry Paulson, is the Responsible Official for making project-level decisions from the project.

Decision Space—Decision making will be limited to specific activities relating to the proposed actions. The primary decision to be made will be whether or not to implement the proposed actions or another action alternative that responds to the project's purpose and needs.

Project History—This project was originally presented to the public for review and comment in October 2000 prior to undertaking preparation of an Environmental Assessment (EA). Many years of experience implementing similar types of activities in the same vicinity have shown us that the effects are not significant. We therefore do not feel that an EIS is required. However, due to the increase in appeals and litigation over the last few years and for wise fiscal efficiency, we have decided to prepare an EIS. This Notice of Intent serves as notice of the intent to prepare an EIS for the Cayuga Project. The comments received as a result of the public participation for the Cayuga analysis will be brought forward for this EIS.

Preliminary Issues—Comments from American Indian tribes, the public, and other agencies were considered in the development of the tentative or preliminary issues. These are as follows: effects on Threatened, Endangered, and Sensitive (TES) and Management Indicator Species (MIS); concern over new road construction and road closures; safety concerns on a section of a motorized trail, direct, and indirect and cumulative effects.

Public Participation—The Forest Service is seeking comments from Federal, State, and local agencies, as well as local Native American tribes and other individuals or organizations that may be interested in or affected by the proposed actions. Comments received in response to this notice will become a matter of public record. While public participation is welcome at any time, comments on the proposed actions received within 30 days of this notice will be especially useful in the preparation of the draft EIS. Timely comments will be used to identify: potential issues with the proposed actions, alternatives to the proposed actions that respond to the identified needs and significant issues, and potential environmental effects of the proposed actions and alternatives considered in detail. In addition, the public is encouraged to contact and/or visit Forest Service officials at any time during the planning process.

Relation to Forest Plan Revision—The Chequamegon-Nicolet National Forest is in the process of revising and combining the existing Land and Resource Management Plans (Forest Plans) for the Chequamegon National Forest and the Nicolet National Forest, which were administratively separate at the time the Forest Plans were developed. A Notice of Intent to revise and combine the Forest Plans was issued in 1996. As part of this process, various inventories and evaluations are occurring. Additionally, the Forest is in the process of developing alternative land management scenarios that could change the desired future conditions and management direction for the Forest. A Draft Environmental Impact Statement (DEIS) will be published in the near future that will disclose the consequences of the different land management direction scenarios considered in detail. As a result of the Forest Plan revision effort, the Forest has new and additional information beyond that used to develop the existing Forest Plans. This information will be used where appropriate in the analysis of this project to disclose the effects of the proposed activities and any alternatives developed in detail.

The decisions associated with the analysis of this project will be consistent with the existing Forest Plan, unless amended, for the Chequamegon. Under regulations of the National Environmental Policy Act (40 CFR 1506.1), the Forest Service can take actions while work on a Forest Plan revision is in progress because a programmatic Environmental Impact Statement—the existing Forest Plan Final EIS, already covers the actions. The relationship of this project to the proposed FP revision will be considered as appropriate as part of this planning effort.

The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F. Supp. 1334, 1338 (E.D. Wis., 1980). Because of these court rulings, it is very important that those interested in this proposed action participate by the close of the 45 day comment period of the draft EIS in order that substantive comments and objections are available to the Forest Service at time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

The responsible official for this EIS is Barry Paulson, District Ranger, Chequamegon-Nicolet National Forest.

Dated: April 17, 2001.
Lynn Roberts,
Forest Supervisor.

[FR Doc. 01-9951 Filed 4-20-01; 8:45 am]

BILLING CODE 3401-11-U